DEPARTMENT OF THE INTERIOR

Bureau of Land Management

[LLCAN06000 L14300000.ET0000 14XL1109AF; CACA 054196, CACA 054303]

Notice of Public Meeting for the Trinity Wild and Scenic River Withdrawal

AGENCY: Bureau of Land Management, Interior.

ACTION: Notice.

SUMMARY: Pursuant to the Federal Land Policy and Management Act (FLPMA) (43 U.S.C. 1714) this notice schedules a public meeting to be conducted to provide information and solicit comments on the proposed withdrawal of lands along the Trinity Wild and Scenic River (TRWSR) in Trinity County, California. The Bureau of Land Management (BLM), in cooperation with the United States Forest Service (USFS) will address the proposed withdrawals of the federal lands (BLM/CACA 54196) and Forest System Lands under management of the U.S. Department of Agriculture, (USFS/CACA 54303). The meeting will be open to the public and conducted in a workshop format. The public is invited to provide written comments on the proposed withdrawals, by submitting cards provided at the meeting.

DATES: The BLM and USFS will hold a public meeting in connection with the proposed withdrawal on May 29, 2014, from 6 p.m. to 8 p.m. at the Trinity Congregational Church Parish Hall, 735 Main Street, Weaverville, California.

SUPPLEMENTARY INFORMATION: The BLM Redding Field Manager has determined that a public meeting is necessary pursuant to Title 43 Code of Federal Regulations § 2310.3-1(c). The Assistant Secretary of the Interior for Policy, Management and Budget published a Notice of Proposed Withdrawal from location and entry under the United States mining laws, but not from mineral material sales or mineral or geothermal leasing, subject to valid existing rights. This action affected 3,123 acres of BLM managed lands, and 541 acres of Forest System Lands in Trinity County, California. The proposed withdrawal was established to protect the cultural, recreational, and biological resources within and along the recreational segments of the Trinity Wild and Scenic River (TRWSR).

FOR FURTHER INFORMATION CONTACT: Charlie Wright, Redding Field Office, BLM, (530) 224-2120. Persons who use a telecommunications device for the deaf (TDD) may call the Federal Information Relay Service (FIRS) at 1-800-877-8339 to contact the above individual. The FIRS is available 24 hours a day, 7 days a week, to leave a message or question with the above individual. You will receive a reply during normal business hours.

Jennifer Mata,
Field Manager, Redding Field Office.

[FR Doc. 2014-10449 Filed 5-6-14; 8:45 am]

BILLING CODE 4310-40-P